DEPARTMENT OF ENERGY

Federal Energy Regulatory Commission

Combined Notice of Filings #1

Take notice that the Commission received the following exempt wholesale generator filings:

Docket Numbers: EG25-143-000.

Applicants: Wildwood Solar, LLC.

Description: Wildwood Solar, LLC submits Notice of Self-Certification of Exempt Wholesale Generator Status.

Filed Date: 2/12/25.

Accession Number: 20250212-5202.

Comment Date: 5 p.m. ET 3/5/25.

Docket Numbers: EG25-144-000.

Applicants: Sebree Solar, LLC.

Description: Sebree Solar, LLC submits Notice of Self-Certification of Exempt Wholesale Generator Status.

Filed Date: 2/12/25.

Accession Number: 20250212-5203.

Comment Date: 5 p.m. ET 3/5/25.

Docket Numbers: EG25-145-000.

Applicants: Route 66 Energy Storage, LLC.

Description: Route 66 Energy Storage, LLC submits Notice of Self-Certification of Exempt Wholesale Generator Status.

Filed Date: 2/12/25.

Accession Number: 20250212-5204.

Comment Date: 5 p.m. ET 3/5/25.

Docket Numbers: EG25-146-000.

Applicants: Sky Ranch Energy Storage II, LLC.

Description: Sky Ranch Energy Storage II, LLC submits Notice of Self-Certification of Exempt Wholesale Generator Status.

Filed Date: 2/12/25.

Accession Number: 20250212-5205.

Comment Date: 5 p.m. ET 3/5/25.

Docket Numbers: EG25-147-000.

Applicants: Fremont Solar, LLC.

Description: Fremont Solar, LLC submits Notice of Self-Certification of Exempt Wholesale Generator Status.

Filed Date: 2/13/25.

Accession Number: 20250213-5047.

Comment Date: 5 p.m. ET 3/6/25.

Take notice that the Commission received the following Complaints and Compliance filings in EL Dockets:

Docket Numbers: EL25-56-000.

Applicants: Red Hills AssetCo LLC.

Description: Petition for Declaratory Order of Red Hills AssetCo LLC.

Filed Date: 2/11/25.

Accession Number: 20250211-5233.

Comment Date: 5 p.m. ET 3/13/25.

Take notice that the Commission received the following electric rate filings:

Docket Numbers: ER12-1183-002; ER25-279-001; ER18-649-004.

Applicants: Hunlock Energy, LLC, Hunlock Creek Generating LLC,UGI Development Company.

Description: Request for Waiver, Expedited Consideration, and Informational Filing of Hunlock Creek Generating LLC et al.

Filed Date: 2/12/25.

Accession Number: 20250212-5211.

Comment Date: 5 p.m. ET 3/5/25.

Docket Numbers: ER25-691-001.

Applicants: Tri-State Generation and Transmission Association, Inc.

Description: Tariff Amendment: Errata to Correct Effective Date Requested for Service Agreement No. 619 to be effective 11/12/2024.

Filed Date: 2/13/25.

Accession Number: 20250213-5076.

Comment Date: 5 p.m. ET 3/6/25.

Docket Numbers: ER25-1286-000.

Applicants: The Empire District Electric Company.

Description: Tariff Amendment: Termination/Cancellation of Service Agreement Nos. 1, 2, & 4 of GFR Tariff to be effective 4/14/2025.

Filed Date: 2/12/25.

Accession Number: 20250212-5177.

Comment Date: 5 p.m. ET 3/5/25.

Docket Numbers: ER25-1287-000.

Applicants: Southwest Power Pool, Inc.

Description: 205(d) Rate Filing: 4179R1 Osborne Grid, LLC GIA to be effective 1/29/2025.

Filed Date: 2/13/25.

Accession Number: 20250213-5001.

Comment Date: 5 p.m. ET 3/6/25.

Docket Numbers: ER25-1288-000.

Applicants: PJM Interconnection, L.L.C.

Description: 205(d) Rate Filing: Original GIA Service Agreement No. 7527; Project Identifier No. AF1-282 to be effective 1/14/2025.

Filed Date: 2/13/25.

Accession Number: 20250213-5008.

Comment Date: 5 p.m. ET 3/6/25.

Docket Numbers: ER25-1289-000.

Applicants: PJM Interconnection, L.L.C.

Description: 205(d) Rate Filing: Amendment to ISA, Service Agreement No. 6245; Queue No. AE2-221 to be effective 4/15/2025.

Filed Date: 2/13/25.

Accession Number: 20250213-5025.

Comment Date: 5 p.m. ET 3/6/25.

Docket Numbers: ER25-1290-000.

Applicants: PJM Interconnection, L.L.C.

Description: 205(d) Rate Filing: Original GIA Service Agreement No. 7526; Project Identifier No. AG1-163 to be effective 1/14/2025.

Filed Date: 2/13/25.

Accession Number: 20250213-5031.

Comment Date: 5 p.m. ET 3/6/25.

Docket Numbers: ER25-1291-000.

Applicants: PJM Interconnection, L.L.C.

Description: 205(d) Rate Filing: Original GIA Service Agreement No. 7528; Project Identifier No. AG1-066 to be effective 1/14/2025.

Filed Date: 2/13/25.

Accession Number: 20250213-5051.

Comment Date: 5 p.m. ET 3/6/25.

Docket Numbers: ER25-1292-000.

Applicants: Fremont Solar, LLC.

Description: Initial Rate Filing: Market-Based Rate Application to be effective 4/15/2025.

Filed Date: 2/13/25.

Accession Number: 20250213-5055.

Comment Date: 5 p.m. ET 3/6/25.

Docket Numbers: ER25-1293-000.

Applicants: Southern California Edison Company.

Description: 205(d) Rate Filing: 4th Amend LGIA, AES Alamitos Energy Center + eTariff Removal (TOT840/SA No. 197) to be effective 2/14/2025.

Filed Date: 2/13/25.

Accession Number: 20250213-5069.

Comment Date: 5 p.m. ET 3/6/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: February 13, 2025.
Debbie-Anne A. Reese,
Secretary.

[FR Doc. 2025-02846 Filed 2-19-25; 8:45 am]

BILLING CODE 6717-01-P